DEPARTMENT OF JUSTICE

Notice of Lodging of Proposed Third Modification to Consent Decree Under the Clean Air Act

On November 1, 2012, the Department of Justice lodged a proposed third modification to a consent decree with the United States District Court for the Eastern District of Michigan in the lawsuit entitled United States, et al. v. Marathon Ashland Petroleum LLC, Civil Action No. 01-40119 (PVG).

Under the original 2001 consent decree, Marathon Ashland Petroleum LLC (“Marathon”) agreed to implement innovative pollution control technologies to reduce emissions of nitrogen oxides, sulfur dioxide, and particulate matter from refinery process units at seven refineries then owned and operated by Marathon. Marathon also agreed to adopt facility-wide enhanced benzene waste monitoring and fugitive emission control programs.

Subsequently, the Court entered a first amendment, a first revised consent decree (that superseded the original consent decree) and a first and second modification to the first revised consent decree. Under the third modification that was lodged on November 1, 2012, Marathon will comply with lower NOx limits at one fluidized catalytic cracking unit (“FCCU”), will comply with higher NOx limits at another FCCU, and will replace an old heater with a new heater equipped with low NOx controls.

The publication of this notice opens a period of public comment on the third modification. Comments should be addressed to the Assistant Attorney General, Environment and Natural Resources Division, and should refer to United States, et al. v. Marathon Ashland Petroleum LLC, D. J. Ref. No. 90-5-2-1-07247. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the third modification may be examined and downloaded at this Department of Justice Web site: http://www.usdoj.gov/enrd/Consent_Decrees.html. We will provide a paper copy of the third modification upon written request and payment of reproduction costs. Please mail your request and payment to:

Consent Decree Library, U.S. DOJ—ENRD, P.O. Box 7611, Washington, DC 20044-7611.

Please enclose a check in the amount of $1.75 (25 cents per page reproduction cost) payable to the United States Treasury.

Maureen Katz,
Assistant Section Chief, Environmental Enforcement Section, Environment and Natural Resources Division.

[FR Doc. 2012-27082 Filed 11-6-12; 8:45 am]

BILLING CODE 4410-15-P